DEPARTMENT OF COMMERCE

International Trade Administration

[Application No. 84-27A12]

Export Trade Certificate of Review

AGENCY: International Trade Administration, Department of Commerce.

ACTION: Notice of Application for an Amended Export Trade Certificate of Review by Northwest Fruit Exporters, Application No. 84-27A12.

SUMMARY: The Secretary of Commerce, through the International Trade Administration, Office of Trade and Economic Analysis (OTEA), has received an application for an amended Export Trade Certificate of Review (“Certificate”) from Northwest Fruit Exporters. This notice summarizes the proposed amendment and seeks public comments on whether the amended Certificate should be issued.

FOR FURTHER INFORMATION CONTACT: Joseph E. Flynn, Director, Office of Trade and Economic Analysis, International Trade Administration, by telephone at (202) 482-5131 (this is not a toll-free number) or email at etca@trade.gov.

SUPPLEMENTARY INFORMATION: Title III of the Export Trading Company Act of 1982 (15 U.S.C. 4001-21) authorizes the Secretary of Commerce to issue Export Trade Certificates of Review. An Export Trade Certificate of Review protects the holder and the members identified in the Certificate from State and Federal government antitrust actions and from private treble damage antitrust actions for the export conduct specified in the Certificate and carried out in compliance with its terms and conditions. Section 302(b)(1) of the Export Trading Company Act of 1982 and 15 CFR 325.6(a) require the Secretary to publish a notice in the Federal Register identifying the applicant and summarizing its proposed export conduct.

Request for Public Comments

Interested parties may submit written comments relevant to the determination whether an amended Certificate should be issued. If the comments include any privileged or confidential business information, it must be clearly marked and a nonconfidential version of the comments (identified as such) should be included. Any comments not marked as privileged or confidential business information will be deemed to be nonconfidential.

An original and five (5) copies, plus two (2) copies of the nonconfidential version, should be submitted no later than 20 days after the date of this notice to: Export Trading Company Affairs, International Trade Administration, U.S. Department of Commerce, Room 21028, Washington, DC 20230.

Information submitted by any person is exempt from disclosure under the Freedom of Information Act (5 U.S.C. 552). However, nonconfidential versions of the comments will be made available to the applicant if necessary for determining whether or not to issue the amended Certificate. Comments should refer to this application as “Export Trade Certificate of Review, application number 84-27A12.”

A summary of the current application follows.

Summary of the Application

Applicant: Northwest Fruit Exporters, 105 South 18th Street, Suite 227, Yakima, WA 98901.

Contact: Fred Scarlett, Manager, (509) 576-8004.

Application No.: 84-27A12.

Date Deemed Submitted: July 25, 2016.

Proposed Amendment: Northwest Fruit Exporters seeks to amend its Certificate as follows:

1. Add the following companies as new Members of the Certificate within the meaning of section 325.2(l) of the Regulations (15 CFR 325.2(l)), for Export Trade Activities and Methods of Operation relating to apples (A):

• Legacy Fruit Packers LLC—Wapato, WA

2. Remove the following companies as Members of the Certificate:

• Garrett Ranches Packing—Wilder, ID

• Ron Lefore d/b/a LeFore Apple Farms—Milton-Freewater, OR

3. Change the product listing for the following existing Members:

• From pears (P) to apples and pears (A,P) for Underwood Fruit & Warehouse Co.—Bingen, WA

4. Update the city listing for the following existing Members:

• Remove Brewster, WA from Custom Apple Packers, Inc.

• Change location of L&M Companies from Selah to Union Gap, WA

Northwest Fruit Exporter's Export Trade Certificate of Review complete amended membership is listed below:

1. Allan Bros., Naches, WA

2. AltaFresh L.L.C. dba Chelan Fresh Marketing, Chelan, WA

3. Apple House Warehouse & Storage, Inc., Brewster, WA

4. Apple King, L.L.C., Yakima, WA

5. Auvil Fruit Co., Inc., Orondo, WA

6. Baker Produce, Inc., Kennewick, WA

7. Blue Bird, Inc., Peshastin, WA

8. Blue Star Growers, Inc., Cashmere, WA

9. Borton & Sons, Inc., Yakima, WA

10. Brewster Heights Packing & Orchards, LP, Brewster, WA

11. Broetje Orchards LLC, Prescott, WA

12. C.M. Holtzinger Fruit Co., Inc., Yakima, WA

13. Chelan Fruit Cooperative, Chelan, WA

14. Chiawana, Inc. dba Columbia Reach Pack, Yakima, WA

15. Columbia Fruit Packers, Inc., Wenatchee, WA

16. Columbia Fruit Packers/Airport Division, Wenatchee, WA

17. Columbia Marketing International Corp., Wenatchee, WA

18. Columbia Valley Fruit, L.L.C., Yakima, WA

19. Congdon Packing Co. L.L.C., Yakima, WA

20. Conrad & Adams Fruit L.L.C., Grandview, WA

21. Cowiche Growers, Inc., Cowiche, WA

22. CPC International Apple Company, Tieton, WA

23. Crane & Crane, Inc., Brewster, WA

24. Custom Apple Packers, Inc., Quincy, and Wenatchee, WA

25. Diamond Fruit Growers, Odell, OR

26. Domex Superfresh Growers LLC, Yakima, WA

27. Douglas Fruit Company, Inc., Pasco, WA

28. Dovex Export Company, Wenatchee, WA

29. Duckwall Fruit, Odell, OR

30. E. Brown & Sons, Inc., Milton-Freewater, OR

31. Evans Fruit Co., Inc., Yakima, WA

32. E.W. Brandt & Sons, Inc., Parker, WA

33. Frosty Packing Co., LLC, Yakima, WA

34. G&G Orchards, Inc., Yakima, WA

35. Gilbert Orchards, Inc., Yakima, WA

36. Gold Digger Apples, Inc., Oroville, WA

37. Hansen Fruit & Cold Storage Co., Inc., Yakima, WA

38. Henggeler Packing Co., Inc., Fruitland, ID

39. Highland Fruit Growers, Inc., Yakima, WA

40. HoneyBear Growers, Inc., Brewster, WA

41. Honey Bear Tree Fruit Co., LLC, Wenatchee, WA

42. Hood River Cherry Company, Hood River, OR

43. Ice Lakes LLC, East Wenatchee, WA

44. JackAss Mt. Ranch, Pasco, WA

45. Jenks Bros Cold Storage & Packing Royal City, WA

46. Kershaw Fruit & Cold Storage, Co., Yakima, WA

47. L&M Companies, Union Gap, WA

48. Larson Fruit Co., Selah, WA

49. Legacy Fruit Packers LLC, Wapato, WA

50. Manson Growers Cooperative, Manson, WA

51. Matson Fruit Company, Selah, WA

52. McDougall & Sons, Inc., Wenatchee, WA

53. Monson Fruit Co. Selah, WA

54. Morgan's of Washington dba Double Diamond Fruit, Quincy, WA

55. Naumes, Inc., Medford, OR

56. Northern Fruit Company, Inc., Wenatchee, WA

57. Olympic Fruit Co., Moxee, WA

58. Oneonta Trading Corp., Wenatchee, WA

59. Orchard View Farms, Inc., The Dalles, OR

60. Pacific Coast Cherry Packers, LLC, Yakima, WA

61. Peshastin Hi-Up Growers, Peshastin, WA

62. Phillippi Fruit Company, Inc., Wenatchee, WA

63. Piepel Premium Fruit Packing LLC, East Wenatchee, WA

64. Polehn Farm's Inc., The Dalles, OR

65. Price Cold Storage & Packing Co., Inc., Yakima, WA

66. Pride Packing Company, Wapato, WA

67. Quincy Fresh Fruit Co., Quincy, WA

68. Rainier Fruit Company, Selah, WA

69. Roche Fruit, Ltd., Yakima, WA

70. Sage Fruit Company, L.L.C., Yakima, WA

71. Smith & Nelson, Inc., Tonasket, WA

72. Stadelman Fruit, L.L.C., Milton-Freewater, OR, and Zillah, WA

73. Stemilt Growers, LLC, Wenatchee, WA

74. Strand Apples, Inc., Cowiche, WA

75. Symms Fruit Ranch, Inc., Caldwell, ID

76. The Dalles Fruit Company, LLC, Dallesport, WA

77. Underwood Fruit & Warehouse Co., Bingen, WA

78. Valicoff Fruit Co., Inc., Wapato, WA

79. Valley Fruit III L.L.C., Wapato, WA

80. Washington Cherry Growers, Peshastin, WA

81. Washington Fruit & Produce Co., Yakima, WA

82. Western Sweet Cherry Group, LLC, Yakima, WA

83. Western Traders LLC, E. Wenatchee, WA

84. Whitby Farms, Inc. dba: Farm Boy Fruit Snacks LLC, Mesa, WA

85. Yakima Fresh, Yakima, WA

86. Yakima Fruit & Cold Storage Co., Yakima, WA

87. Zirkle Fruit Company, Selah, WA

Dated: August 3, 2016.
Joseph E. Flynn,
Director, Office of Trade and Economic Analysis, International Trade Administration.

[FR Doc. 2016-18755 Filed 8-5-16; 8:45 am]

BILLING CODE 3510-DR-P